DEPARTMENT OF THE TREASURY

Submission for OMB Review; Comment Request

January 21, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11100, 1750 Pennsylvania Avenue, NW., Washington, DC 20220.

DATES: Written comments should be received on or before March 5, 2003 to be assured of consideration.

Bureau of Alcohol, Tobacco and Firearms (BATF)

OMB Number: 1512-0096.

Form Number: ATF 5130.12 (1689).

Type of Review: Extension.

Title: Beer for Exportation.

Description: Untaxpaid beer may be removed from a brewery for exportation without payment of the excise tax normally due on removal. In order to ensure that exportation took place as claimed and that untaxpaid beer does not reach domestic market, ATF requires certification on Form 5130.12.

Respondents: Business or other for-profit.

Estimated Number of Respondents: 392.

Estimated Burden Hours Per Respondent: 1 hour, 39 minutes.

Frequency of Response: On occasion.

Estimated Total Reporting Burden: 38,808 hours.

OMB Number: 1512-0298.

Recordkeeping Requirement ID Number: ATF REC 5120/1.

Type of Review: Extension.

Title: Usual and Customary Business Records Relating to Wine.

Description: ATF routinely inspects wineries' usual and customary business records to insure the proper payment of wine excise taxes due to the Federal government.

Respondents: Business or other for-profit.

Estimated Number of Respondents: 3,131.

Estimated Burden Hours Per Respondent: 10 minutes.

Frequency of Response: On occasion.

Estimated Total Reporting Burden: 313 hours.

OMB Number: 1512-0536.

Form Number: None.

Type of Review: Extension.

Title: Notification of Fire Marshal and Chief, Law Enforcement Officer of Storage of Explosive Materials.

Description: Title 18 U.S.C., Chapter 40, gives the Secretary of Treasury authority to issue regulations intended to help prevent accidents involving explosives. The collection of information contained herein is necessary for the safety of emergency response personnel responding to fires at sites where explosives are stored.

Respondents: Business or other for-profit, individuals or households, farms, State, Local or Tribal Government.

Estimated Number of Respondents: 10,057.

Estimated Burden Hours Per Respondent: 90 minutes.

Frequency of Response: Semi-annually.

Estimated Total Reporting Burden: 60,342 hours.

OMB Number: 1512-0537.

Form Number: ATF F 5154.3.

Type of Review: Extension.

Title: Bond for Drawback Under 26 U.S.C. 5131.

Description: Business that use taxpaid alcohol to manufacture nonbeverage products may file a claim for drawback (refund or remittance). Claims may be filed monthly or quarterly. Monthly claimants must file a bond on ATF 5154.3 to protect the Government's interest.

Respondents: Business or other for-profit.

Estimated Number of Respondents: 60.

Estimated Burden Hours Per Respondent: 12 minutes.

Frequency of Response: On occasion.

Estimated Total Reporting Burden: 12 hours.

Clearance Officer: Jacqueline White (202) 927-8930, Bureau of Alcohol, Tobacco and Firearms, Room 3200, 650 Massachusetts Avenue, NW.

OMB Reviewer: Joseph F. Lackey, Jr. (202) 396-7316, Office of Management and Budget, Room 10235, New Executive Office Building, Washington, DC 20503.

Mary A. Able,
Department Reports Management Officer.

[FR Doc. 03-2409 Filed 1-31-03; 8:45 am]

BILLING CODE 4810-31-P